DEPARTMENT OF EDUCATION

Office of Special Education and Rehabilitative Services; Overview Information; Technical Assistance and Dissemination To Improve Services and Results for Children With Disabilities—National Early Childhood Technical Assistance Center; Notice Inviting Applications for New Awards for Fiscal Year (FY) 2006

Catalog of Federal Domestic Assistance (CFDA) Number: 84.326H.

Dates:

Applications Available: April 28, 2006.

Deadline for Transmittal of Applications: June 12, 2006.

Deadline for Intergovernmental Review: August 11, 2006.

Eligible Applicants: State educational agencies (SEAs), local educational agencies (LEAs), public charter schools that are LEAs under State law, institutions of higher education (IHEs), other public agencies, private nonprofit organizations, outlying areas, freely associated States, Indian tribes or tribal organizations, and for-profit organizations.

Estimated Available Funds: $3,000,000.

Maximum Award: We will reject any application that proposes a budget exceeding $3,000,000 for a single budget period of 12 months. The Assistant Secretary for Special Education and Rehabilitative Services may change the maximum amount through a notice published in the Federal Register.

Number of Awards: 1.

Note: The Department is not bound by any estimates in this notice.

Project Period: Up to 60 months.

Full Text of Announcement

I. Funding Opportunity Description

Purpose of Program: This program promotes academic achievement and improves results for children with disabilities by supporting technical assistance, model demonstration projects, dissemination of useful information, and implementation activities that are supported by scientifically-based research.

Priority: In accordance with 34 CFR 75.105(b)(2)(v), this priority is from allowable activities specified in the statute (see sections 663 and 681(d) of the Individuals with Disabilities Education Act (IDEA)).

Absolute Priority: For FY 2006 this priority is an absolute priority. Under 34 CFR 75.105(c)(3), we consider only applications that meet this priority.

This priority is:

National Early Childhood Technical Assistance Center

Background: IDEA supports the provision of early intervention services and related services to eligible infants, toddlers, and children with disabilities (ages birth through five) and their families. Specifically, funds provided under section 619 of Part B of IDEA support the provision of Part B services (i.e., special education and related services) to children with disabilities aged three through five and, at the State's discretion, to two-year old children with disabilities who will turn three during the school year. Funds provided under Part C of IDEA support early intervention services for infants and toddlers with disabilities aged birth through two, and, under certain circumstances, for children who are eligible to receive services under section 619 of Part B of IDEA and who previously received services under Part C of IDEA, and their families. Part D of IDEA authorizes Federal funding for personnel preparation, technical assistance, model demonstration, information dissemination, and studies and evaluations, in order to improve early intervention, educational, and transitional results for children with disabilities.

The Department's Office of Special Education Programs (OSEP) implements IDEA by assisting each State to develop Statewide policies and procedures that ensure that appropriate early intervention services are available to all infants and toddlers with disabilities in the State and their families and that a free appropriate public education (FAPE) is available for children with disabilities aged three through five. OSEP also assists each State to enhance State capacity to provide comprehensive IDEA services under Parts B and C of IDEA to infants, toddlers, and children with disabilities (ages birth through five) and their families.

Technical assistance and dissemination activities are necessary to ensure that States fully implement Parts B and C of IDEA and thereby achieve appropriate early intervention and educational results for infants, toddlers, and children with disabilities and their families. Thus, through this priority, the Department proposes to fund a National technical assistance center that will build and support the capacity of States to fully implement Parts B and C of IDEA.

Priority:

The purpose of this priority is to ensure that eligible infants, toddlers, and children with disabilities (ages birth through five years) receive, as appropriate, services under Parts B and C of IDEA that ultimately improve their developmental and early learning outcomes and that the families of eligible infants, toddlers, and children receiving services under Part C of IDEA receive services necessary to enhance the family's capacity to meet the developmental needs of the infant, toddler, or child. Under this priority, therefore, the Department will fund, through a cooperative agreement, a technical assistance center that will focus on technical assistance approaches that lead to strengthened State and local systems and improved outcomes for infants, toddlers and children with disabilities and families of infants, toddlers and children receiving services under Part C of IDEA.

General. To meet this priority, the National Early Childhood Technical Assistance Center (the Center) must—

(a) Provide technical assistance to the Bureau of Indian Affairs (BIA) and all States providing early intervention and special education to children aged birth through 5 under Part B of IDEA and Part C of IDEA, and to early childhood projects funded under Part D of IDEA;

(b) Help these States and the early childhood projects funded under Part D of IDEA respond to State needs identified by assessing relevant information, including information in Annual Performance Reports (APRs) and State Performance Plans (SPPs) and information collected through Federal and State monitoring activities; and

(c) Construct mechanisms to link professionals who are involved in producing new scientifically-based knowledge and products with program administrators, families, and service providers, utilizing State technical assistance systems, national membership organizations and their State affiliates, and other technical assistance and dissemination projects.

In planning technical assistance, the Center must consider the broad range of projects supported under IDEA, anticipate the kinds of technical assistance requests that the Center is likely to receive, and have the capacity to respond to highly diverse requests. All technical assistance provided by the Center must promote the implementation of evidence-based practices to improve outcomes for infants, toddlers, and children with disabilities.

Planning Activities. The Center's planning activities must include, but are not limited to, the following:

(a) Developing a plan in the first three months of the project period that outlines a comprehensive technical assistance approach, based on effective strategies, that can serve as the conceptual underpinning of the project activities. The plan must describe how activities will contribute to improved outcomes for infants, toddlers, and children with disabilities. The plan must be developed in consultation with SEAs, lead agencies, and the advisory committee the Center establishes under this priority, and must be based on the needs of the SEAs and lead agencies. The plan must be submitted to OSEP for review and approval and be updated annually.

(b) Meeting with the OSEP Project Officer and other appropriate staff in Washington, DC within the first three months of the project period to identify the specific project activities the Center will carry out.

Knowledge Development Activities. The Center's knowledge development activities must include, but are not limited to, the following:

(a) Conducting an analysis of APRs, SPPs, monitoring reports, and other sources of information to—(1) Ensure that the Center's technical assistance activities respond to needs that OSEP has identified in its monitoring activities; and (2) determine the current status of States' implementation of Parts B and C of IDEA for infants, toddlers and children with disabilities (ages birth through five).

(b) Based on the analysis conducted in paragraph (a) of this section, developing a compilation of problem areas and needs of States related to States' implementation of Parts B and C of IDEA. The compilation must include the source (e.g., monitoring report, APR, SPP, journal article) that identifies each problem area and State need and the relevant findings related to the issue.

(c) Identifying critical problem areas and needs experienced by States in providing services to children with disabilities to be addressed by the Center, synthesizing and developing information on these problem areas and State needs, and developing technical assistance strategies to address these critical problem areas and State needs. To identify critical problem areas and State needs, the Center must work with project directors of early childhood projects funded under Part D of IDEA, families, local administrators, policy makers, OSEP staff, Part C and section 619 State contacts, and other early childhood programs and technical assistance providers.

(d) Developing a technical assistance plan for prioritizing and addressing the problem areas and State needs identified in paragraphs (b) and (c) of this section. This technical assistance plan must be included and updated in the Center's annual plan referenced in the Planning Activities section of this priority and must include an analysis of critical problem areas and State needs and specific strategies and approaches the Center plans to employ. The technical assistance plan must describe the basis for the Center's priorities.

Technical Assistance Activities. The Center's technical assistance activities must include, but are not limited to, the following:

(a) Making optimum use of appropriate technology in conducting its internal and external activities, including, but not limited to, maintaining a user-friendly Web site with relevant information and documents in a format that meets a government or industry-recognized standard for accessibility with links to other OSEP-funded centers. Other examples of optimum use of technology include: Using Web-enhanced communications for intra-organization and external communications; monitoring data available on library services; using eNotes services to communicate with section 619 coordinators, Part C coordinators, and Part D discretionary projects on early intervention and early childhood issues; and using listserves to provide information to section 619 coordinators, Part C coordinators, and Part D discretionary projects.

(b) Developing and implementing a work plan for each State, unless a State chooses not to participate, that identifies the needs and priorities of appropriate early childhood entities involved in providing services for infants, toddlers, and children with disabilities in the State (a State Work Plan). In developing the State Work Plan, the Center must involve, at a minimum, the State section 619 or Part C coordinator and other technical assistance providers working in the State such as the Regional Resource Centers (RRCs). The purpose of the State Work Plans is to define the State's needs, identify priorities for system changes to meet those needs, and establish an action plan to accomplish system changes. State Work Plans must be based on the information compiled under the Knowledge Development Activities section of this priority. The State Work Plan must describe the responsibilities of all parties who participate in the State Work Plan, how technical assistance providers in the State will collaborate, how the Center will provide direct technical assistance to the State, and which evaluation activities will be used to measure progress in implementing the State Work Plan.

(c) Providing States with specialized technical assistance in the subject area of children with disabilities from birth through 5 with behavior challenges, including children referred through the Child Abuse Protection and Treatment Act (CAPTA) and the McKinney-Vento Homeless Assistance Act. These specialized technical assistance activities must include—(1) Highlighting methods for increasing the capacity of States to conduct and coordinate child find efforts to locate, identify, and evaluate children with disabilities, including specific subpopulations such as homeless children, children in foster care, children who are wards of the State, and children in substantiated cases of abuse or neglect under CAPTA or under the age of three and affected by illegal substance abuse or prenatal drug exposure; (2) identifying screening instruments that are appropriate for identifying infants, toddlers, and children with disabilities; (3) conducting symposia or summits on positive behavior interventions for these children; and (4) summarizing and transferring knowledge on early problem behavior and effective interventions. The Center must coordinate and collaborate with discretionary projects funded by the Department under Part D of IDEA that address the needs of infants, toddlers, and children with disabilities and behavior challenges. The Center also must build upon collaborative efforts developed by the Center for Evidence-based Practice: Young Children with Challenging Behavior, which the Department currently funds, and coordinate its technical assistance with a similar center funded by the Agency for Children, Youth and Families (ACYF).

(d) Providing States with specialized technical assistance on interagency collaboration and service coordination efforts. This will include identifying and disseminating information about the most successful strategies for minimizing duplication of services and maximizing developmental and early learning outcomes for infants, toddlers, and children with disabilities (birth through age five). The technical assistance activities must focus on one or more of the following: (1) Coordinating child find efforts; (2) promoting seamless services for children with disabilities and their families, including smooth transitions from Part C programs to Part B programs; (3) developing and implementing effective interagency agreements between lead agencies implementing Part C programs and State agencies responsible for administering CAPTA that address child find responsibilities, and interagency agreements between lead agencies implementing Part C programs, SEAs administering Part B programs and agencies responsible for administering the early Head Start and Head Start programs that address early childhood transition responsibilities; (4) promoting the adoption of research-based service coordination and integration models and practices; (5) supporting interagency coordination models that increase the provision of early intervention services to infants, toddlers and children with disabilities in natural environments, inclusive preschool programs, and high quality early childhood programs for typically developing children; and (6) communicating with and involving families in activities promoting high quality interagency collaboration and service coordination. The Center must coordinate and collaborate with other relevant early childhood programs, service providers, technical assistance providers, and discretionary projects funded by the Department that address interagency collaboration and service coordination.

(e) Collaborating and coordinating with the Technical Assistance Center to Support Evidence-based Early Intervention and Early Childhood Special Education (if and when the Department funds this center) to disseminate the most successful practices for improving developmental and early learning outcomes, including social-emotional and language and early literacy skills, for infants, toddlers and children with disabilities, birth through age five.

(f) Convening a National Early Childhood Conference for the exchange of information among early childhood services providers, State contacts, technical assistance providers, families, and researchers. The Center must convene a Conference Advisory Panel to develop the conference theme and agenda.

(g) Developing and disseminating reports and documents that, at a minimum, include information on the Department-funded early childhood, section 619, and Part C projects within each State; including project abstracts, contact information, and a summary of project goals and outcomes.

(h) Submitting for approval a proposal describing the content and purpose of any new (i.e., not listed in paragraph (g) of this section) paper or electronic product, prior to its development, to the Product Planning Advisory Board of the OSEP-funded National Dissemination Center.

(i) Coordinating with existing technical assistance efforts by communicating with prospective technical assistance partners, interviewing Parent Training and Information Centers (PTIs) and Community Parent Resource Centers (CPRCs) about Part C and early childhood services implementation issues, working with RRCs to respond to early intervention and preschool information requests, promoting the work of the OSEP-funded Early Childhood Outcomes Center and the General Supervision Enhancement Grants that focus on early childhood, and collaborating with other general early childhood technical assistance projects (e.g., those funded by Head Start and the Child Care Bureau).

(j) Providing OSEP-specified technical assistance to specific States or on specific issues identified by OSEP. This OSEP-specified technical assistance may include—(1) Participation in Communities of Practice activities addressing early childhood issues such as the requirement to serve children in the least restrictive environment under Part B of IDEA, the requirement to serve children in natural environments under Part C of IDEA, child identification, and data collection; (2) direct technical assistance to OSEP-specified States through partnerships among OSEP, other technical assistance centers, and the States; or (3) technical assistance regarding emerging or other high-priority issues identified by OSEP. Staff time and project resources dedicated to provide technical assistance to OSEP-specified States or on OSEP-specified issues will be negotiated with OSEP. The Center must dedicate approximately $40,000 of its award annually to providing OSEP-specified technical assistance to States.

Additional Requirements. The Center also must—

(a) Maintain communication with the OSEP Project Officer through monthly phone conversations and regular e-mail communication as determined by the Center's director and the OSEP Project Officer. The Center must submit monthly reports, annual performance reports, and provide additional written materials as needed for the OSEP Project Officer to monitor the Center's work;

(b) Establish, maintain, and meet at least annually with an advisory committee consisting of persons with expertise regarding infants, toddlers and children with disabilities in the birth through five years age range in areas such as special and general early childhood education, early intervention, systems change, evaluation, IDEA requirements, education reform and restructuring, professional development and support, and technical assistance and dissemination;

(c) Each year during the project period, fund as project assistants, two doctoral students who have concentrations in early intervention, early childhood, special education, or related services;

(d) Conduct evaluations of its activities and the overall impact of its work. The evaluation process must, at a minimum, include a third party evaluation (approved by OSEP) to gauge the effectiveness of the technical assistance provided by the Center in light of the objectives of this priority. The third party evaluation must include—(1) Analysis of whether the Center is a high performing organization that provides technical assistance; (2) analysis of the relevance of technical assistance activities performed by the Center; (3) analysis of the outcomes of the Center's technical assistance activities; and (4) analysis of the impact the technical assistance provided by the Center has had on the capacity of States to fully implement Parts B and C of IDEA. The Center must report its evaluation findings and disseminate the findings annually to the OSEP Project Officer and the advisory committee; and

(e) Budget for attendance at an annual three-day Project Directors' Meeting in Washington, DC, the Technical Assistance and Dissemination Project Directors' Meeting, and at least two annual planning meetings. Applicants also must budget for attendance at other meetings such as Department briefings, Department-sponsored conferences, and other OSEP-requested activities.

Fourth and Fifth Years of Project:

In deciding whether to continue funding the Center for the fourth and fifth years, the Secretary will consider the requirements of 34 CFR 75.253(a), and in addition—

(a) The recommendation of a review team consisting of experts selected by the Secretary. This review will be conducted in Washington, DC during the last half of the project's second year. Projects must budget for travel expenses associated with this one-day intensive review;

(b) The timeliness and effectiveness with which all requirements of the negotiated cooperative agreement have been or are being met by the Center; and

(c) Evidence of the degree to which the Center's activities have contributed to changed practices and improved outcomes for infants, toddlers, and children with disabilities.

Waiver of Proposed Rulemaking: Under the Administrative Procedure Act (APA) (5 U.S.C. 553), the Department generally offers interested parties the opportunity to comment on a proposed priority. However, section 681(d) of IDEA makes the public comment requirements under the APA inapplicable to the priority in this notice.

Program Authority: 20 U.S.C. 1463 and 1481(d).

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to IHEs only.

II. Award Information

Type of Award: Cooperative agreement.

Estimated Available Funds: $3,000,000.

Maximum Award: We will reject any application that proposes a budget exceeding $3,000,000 for a single budget period of 12 months. The Assistant Secretary for Special Education and Rehabilitative Services may change the maximum amount through a notice published in the Federal Register.

Number of Awards: 1.

Note: The Department is not bound by any estimates in this notice.

Project Period: Up to 60 months.

III. Eligibility Information

1. Eligible Applicants: SEAs, LEAs, public charter schools that are LEAs under State law, IHEs, other public agencies, private nonprofit organizations, outlying areas, freely associated States, Indian tribes or tribal organizations, and for-profit organizations.

2. Cost Sharing or Matching: This competition does not involve cost sharing or matching.

3. Other: General Requirements—(a) The projects funded under this competition must make positive efforts to employ and advance in employment qualified individuals with disabilities (see section 606 of IDEA).

(b) Applicants and grant recipients funded under this competition must involve individuals with disabilities or parents of individuals with disabilities, ages birth through 26 in planning, implementing, and evaluating the project (see section 682(a)(1)(A) of IDEA).

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA Number 84.326H.

Individuals with disabilities may obtain a copy of the application package in an alternative format (e.g., Braille, large print, audiotape, or computer diskette) by contacting the Grants and Contracts Services Team listed under FOR FURTHER INFORMATION CONTACT in section VII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 70 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; the one-page abstract, the resumes, the bibliography, the references, or the letters of support. However, you must include all of the application narrative in Part III.

We will reject your application if—

• You apply these standards and exceed the page limit; or

• You apply other standards and exceed the equivalent of the page limit.

3. Submission Dates and Times:

Applications Available: April 28, 2006.

Deadline for Transmittal of Applications: June 12, 2006.

Applications for grants under this competition may be submitted electronically using the Grants.gov Apply site (Grants.gov), or in paper format by mail or hand delivery. For information (including dates and times) about how to submit your application electronically, or by mail or hand delivery, please refer to section IV.6. Other Submission Requirements in this notice.

We do not consider an application that does not comply with the deadline requirements.

Deadline for Intergovernmental Review: August 11, 2006.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications

We have been accepting applications electronically through the Department's e-Application system since FY 2000. In order to expand on those efforts and comply with the President's Management Agenda, we are continuing to participate as a partner in the new government wide Grants.gov Apply site in FY 2006. The National Early Childhood Technical Assistance Center—CFDA Number 84.326H is one of the competitions included in this project. We request your participation in Grants.gov.

If you choose to submit your application electronically, you must use the Grants.gov Apply site at http://www.grants.gov. Through this site, you will be able to download a copy of the application package, complete it offline, and then upload and submit your application. You may not e-mail an electronic copy of a grant application to us.

You may access the electronic grant application for the National Early Childhood Technical Assessment Center at: http://www.grants.gov. You must search for the downloadable application package for this program by the CFDA number. Do not include the CFDA number's alpha suffix in your search.

Please note the following:

• Your participation in Grants.gov is voluntary.

• When you enter the Grants.gov site, you will find information about submitting an application electronically through the site, as well as the hours of operation.

• Applications received by Grants.gov are time and date stamped. Your application must be fully uploaded and submitted, and must be date/time stamped by the Grants.gov system no later than 4:30 p.m., Washington, DC time, on the application deadline date. Except as otherwise noted in this section, we will not consider your application if it is date/time stamped by the Grants.gov system later than 4:30 p.m., Washington, DC time, on the application deadline date. When we retrieve your application from Grants.gov, we will notify you if we are rejecting your application because it was date/time stamped by the Grants.gov system after 4:30 p.m., Washington, DC time, on the application deadline date.

• The amount of time it can take to upload an application will vary depending on a variety of factors including the size of the application and the speed of your Internet connection. Therefore, we strongly recommend that you do not wait until the application deadline date to begin the application process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all of the steps in the Grants.gov registration process (see http://www.Grants.gov/GetStarted). These steps include (1) registering your organization, (2) registering yourself as an Authorized Organization Representative (AOR), and (3) getting authorized as an AOR by your organization. Details on these steps are outlined in the Grants.gov 3-Step Registration Guide (see http://www.grants.gov/assets/GrantsgovCoBrandBrochure8X11.pdf). You also must provide on your application the same D-U-N-S Number used with this registration. Please note that the registration process may take five or more business days to complete, and you must have completed all registration steps to allow you to successfully submit an application via Grants.gov.

• You will not receive additional point value because you submit your application in electronic format, nor will we penalize you if you submit your application in paper format.

• You may submit all documents electronically, including all information typically included on the Application for Federal Education Assistance (ED 424), Budget Information—Non-Construction Programs (ED 524), and all necessary assurances and certifications. If you choose to submit your application electronically, you must attach any narrative sections of your application as files in a .DOC (document), .RTF (rich text) or .PDF (Portable Document) format. If you upload a file type other than the three file types specified above or submit a password protected file, we will not review that material.

• Your electronic application must comply with any page limit requirements described in this notice.

• After you electronically submit your application, you will receive an automatic acknowledgment from Grants.gov that contains a Grants.gov tracking number. The Department will retrieve your application from Grants.gov and send you a second confirmation by e-mail that will include a PR/Award number (an ED-specified identifying number unique to your application).

• We may request that you provide us original signatures on forms at a later date.

Application Deadline Date Extension in Case of System Unavailability

If you are prevented from electronically submitting your application on the application deadline date because of technical problems with the Grants.gov system, we will grant you an extension until 4:30 p.m., Washington, DC time, the following business day to enable you to transmit your application electronically, or by hand delivery. You also may mail your application by following the mailing instructions as described elsewhere in this notice. If you submit an application after 4:30 p.m., Washington, DC time, on the deadline date, please contact the person listed elsewhere in this notice under For Further Information Contact, and provide an explanation of the technical problem you experienced with Grants.gov, along with the Grants.gov Support Desk Case Number (if available). We will accept your application if we can confirm that a technical problem occurred with the Grants.gov system and that that problem affected your ability to submit your application by 4:30 p.m., Washington, DC time, on the application deadline date. The Department will contact you after a determination is made on whether your application will be accepted.

Note: Extensions referred to in this section apply only to the unavailability of or technical problems with the Grants.gov system. We will not grant you an extension if you failed to fully register to submit your application to Grants.gov before the deadline date and time or if the technical problem you experienced is unrelated to the Grants.gov system.

b. Submission of Paper Applications by Mail

If you submit your application in paper format by mail (through the U.S. Postal Service or a commercial carrier), you must mail the original and two copies of your application, on or before the application deadline date, to the Department at the applicable following address:

By mail through the U.S. Postal Service: U.S. Department of Education, Application Control Center, Attention: (CFDA Number 84.326H), 400 Maryland Avenue, SW., Washington, DC 20202-4260, or

By mail through a commercial carrier:

U.S. Department of Education, Application Control Center—Stop 4260, Attention: (CFDA Number 84.326H), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you submit your application in paper format by hand delivery, you (or a courier service) must deliver the original and two copies of your application by hand, on or before the application deadline date, to the Department at the following address: U.S. Department of Education, Application Control Center, Attention: (CFDA Number 84.326H), 550 12th Street, SW., Room 7041, Potomac Center Plaza, Washington, DC 20202-4260. The Application Control Center accepts hand deliveries daily between 8 a.m. and 4:30 p.m., Washington, DC time, except Saturdays, Sundays and Federal holidays.

Note for Mail or Hand Delivery of Paper Applications: If you mail or hand deliver your application to the Department:

(1) You must indicate on the envelope and—if not provided by the Department—in Item 4 of ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: The selection criteria for this competition are from 34 CFR 75.210 and are listed in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act of 1993 (GPRA), the Department has developed measures that will yield information on various aspects of the Technical Assistance and Dissemination to Improve Services and Results for Children with Disabilities program. These measures focus on: the extent to which projects provide high quality products and services, the relevance of project products and services to educational and early intervention policy and practice, and the use of products and services to improve educational and early intervention policy and practice.

We will notify grantees if they will be required to provide any information related to these measures.

Grantees will also be required to report information on their projects' performance in annual reports to the Department (34 CFR 75.590).

VII. Agency Contact

For Further Information Contact: Peggy Cvach, U.S. Department of Education, 400 Maryland Avenue, SW., room 4060, Potomac Center Plaza, Washington, DC 20202-2550. Telephone: (202) 245-7314.

If you use a telecommunications device for the deaf (TDD), you may call the Federal Relay Service (FRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 245-7363.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: April 21, 2006.
John H. Hager,
Assistant Secretary for Special Education and Rehabilitative Services.

[FR Doc. 06-3995 Filed 4-27-06; 8:45 am]

BILLING CODE 4000-01-P